DEPARTMENT OF HOMELAND SECURITY

[Docket Number DHS-2023-0017]

Agency Information Collection Activities: USSS Citizens Academy Application, Electronic Form

AGENCY: Department of Homeland Security (DHS).

ACTION: 30-Day notice and request for comments.

SUMMARY: The Department of Homeland Security will submit the following Information Collection Request (ICR) to the Office of Management and Budget (OMB) for review and clearance in accordance with the Paperwork Reduction Act of 1995. DHS Previously published this ICR in the Federal Register on Friday, November 17, 2023 for a 60-day public comment period. There was one comment received by DHS. The purpose of this notice is to allow additional 30-days for public comments

DATES: Comments are encouraged and will be accepted until February 29, 2024. This process is conducted in accordance with 5 CFR 1320.1.

ADDRESSES: You may submit comments, identified by docket number Docket #DHS-2023-0017, at:

○ Federal eRulemaking Portal: https://www.regulations.gov. Please follow the instructions for submitting comments.

Instructions: All submissions received must include the agency name and docket number Docket #DHS-2023-0017. All comments received will be posted without change to https://www.regulations.gov, including any personal information provided.

Docket: For access to the docket to read background documents or comments received, go to https://www.regulations.gov.

SUPPLEMENTARY INFORMATION: The Agency has initiated a Citizens Academy to inform the public about its mission, focused on participation from local community leaders. The academy will take place in local Agency field offices. Prior to participating, applicants will need to provide information as their community leadership role and provide PII so that a background investigation can be conducted to check for criminal history, open warrants, etc. The application allows for the Agency to gather the information necessary for each applicant to determine if they are eligible for participation. Authority to collect the information sought on this form is derived from Title 28 U.S.C. 599A, 28 CFR 0.130, and 18 U.S.C. 3056.

This will be a new collection of information. The Agency has initiated a Citizens Academy for local community members, who will need to fill out an application to express interest and to provide PII for the Agency to initiate a background investigation for the applicants prior to participating in the USSS Citizens Academy. The information will be gathered by electronic submission of the USSS Citizens Academy Application to local Agency Field Offices. Applicant information will also be used to contact any applicants placed on a wait list to join future USSS Citizens Academies.

All information collected will be via electronic submission. The applicant will receive a PDF form via email to complete and submit to the agency. All respondents are individuals, not small businesses/entities.

The collection will only occur one time per year upon initial application to the Agency requesting to participate in the USSS Citizens Academy. There would be no way to reduce the frequency or else community members would not be able to apply for the USSS Citizens Academy. There is no change in the burden as this is a new collection.

While the Agency does not provide any assurance of confidentiality, information provided by the respondents will be protected from disclosure to the extent appropriate under the applicable provisions of the Freedom of Information Act and the Privacy Act of 1974. Personally identifying information will be collected and transmitted in accordance with the Privacy Act. However, to the extent that the information collected is Sensitive Security Information (SSI) as defined in 49 CFR part 1520, Protection of Sensitive Security Information, such information is protected from public disclosure.

The application provides a Privacy Act Statement and requests signed Consent to collect the information. Further, this collection is covered under DHS/ALL-023—Department of Homeland Security Personnel Security Management, which is the baseline system for personnel security activities to ensure that all DHS components follow the same privacy rules for collecting and handling personnel security management records (74 FR 3084, January 16, 2009).

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security (DHS).

Title: USSS Citizens Academy Application.

OMB Number: 1620-NEW.

Frequency: Annually.

Affected Public: Individuals.

Number of Respondents: 80.

Estimated Time per Respondent: 15 Minutes.

Total Burden Hours: 20 Hours.

Laura Chavez,
Deputy Division Chief, Enterprise Policy Division, Office of Strategic Planning and Policy.

[FR Doc. 2024-01780 Filed 1-29-24; 8:45 am]

BILLING CODE 9110-18-P